DEPARTMENT OF LABOR

Employment and Training Administration

[TA-W-38,134]

Antonio Clothing, New York, NY; Notice of Termination of Investigation

Pursuant to section 221 of the Trade Act of 1974, an investigation was initiated on September 25 in response to a worker petition which was filed by the Union of Needletrades, Industrial and Textile Employees on behalf of workers at Antonio Clothing, New York, New York.

The Department has been unable to locate an official of the company to obtain the information necessary to conduct an investigation. Consequently, further investigation in this case would serve no purpose, and the investigation has been terminated.

Signed in Washington, D.C. this 5th day of December, 2000.
Linda G. Poole,
Certifying Officer, Division of Trade Adjustment Assistance.

[FR Doc. 01-942 Filed 1-10-01; 8:45 am]

BILLING CODE 4510-30-M